COMMITTEE FOR THE IMPLEMENTATION OF TEXTILE AGREEMENTS

Adjustment of Import Limits for Certain Cotton, Man-Made Fiber, Silk Blend and Other Vegetable Fiber Textiles and Textile Products Produced or Manufactured in Sri Lanka

September 26, 2000.

AGENCY: Committee for the Implementation of Textile Agreements (CITA).

ACTION: Issuing a directive to the Commissioner of Customs adjusting limits.

EFFECTIVE DATE: September 29, 2000.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted, variously, for swing, carryforward and special shift.

A description of the textile and apparel categories in terms of HTS numbers is available in the CORRELATION: Textile and Apparel Categories with the Harmonized Tariff Schedule of the United States (see Federal Register notice 64 FR 71982, published on December 22, 1999). Also see 64 FR 70224, published on December 16, 1999.

D. Michael Hutchinson,
Acting Chairman, Committee for the Implementation of Textile Agreements.

Committee for the Implementation of Textile Agreements

September 26, 2000.

Commissioner of Customs,

Department of the Treasury, Washington, DC 20229.

Dear Commissioner: This directive amends, but does not cancel, the directive issued to you on December 10, 1998, by the Chairman, Committee for the Implementation of Textile Agreements. That directive concerns imports of certain cotton, wool, man-made fiber, silk blend and other vegetable fiber textiles and textile products, produced or manufactured in Sri Lanka and exported during the twelve-month period which began on January 1, 2000 and extends through December 31, 2000.

Effective September 29, 2000, you are directed to adjust the limits for the following categories, as provided for under the Uruguay Round Agreement on Textiles and Clothing:

Category | Adjusted twelve-month limit ¹
237 | 411,520 dozen.
334/634 | 1,155,180 dozen.
335/835 | 231,058 dozen.
336/636/836 | 638,813 dozen.
338/339 | 2,041,739 dozen.
340/640 | 1,793,208 dozen.
341/641 | 2,767,708 dozen of which not more than 1,760,990 dozen shall be in Category 341 and not more than 1,723,501 dozen shall be in Category 641.
342/642/842 | 977,977 dozen.
345/845 | 276,963 dozen.
347/348/847 | 2,040,380 dozen.
350/650 | 176,004 dozen.
351/651 | 501,403 dozen.
363 | 18,851,176 numbers.
369-D ² | 579,681 kilograms.
369-S ³ | 1,086,879 kilograms.
635 | 603,278 dozen.
638/639/838 | 1,253,469 dozen.
644 | 789,207 numbers.
645/646 | 152,667 dozen.
647/648 | 1,326,369 dozen.
840 | 266,220 dozen.
¹ The limits have not been adjusted to account for any imports exported after December 31, 1999.
² Category 369-D: only HTS numbers 6302.60.0010, 6302.91.0005 and 6302.91.0045.
³ Category 369-S: only HTS number 6307.10.2005.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc. 00-25011 Filed 9-28-00; 8:45 am]

BILLING CODE 3510-DR-F